DEPARTMENT OF ENERGY

Federal Energy Regulatory Commission

[Project No. 11887-000]

Notice of Application Accepted for Filing and Soliciting Comments, Motions To Intervene, and Protests

July 16, 2003.

Take notice that the following hydroelectric application has been filed with the Commission and is available for public inspection:

a. Type of Application: Preliminary Permit.

b. Project No: 12424-000.

c. Date Filed: December 3, 2002 and Supplemented on March 26, 2003.

d. Applicant: The City of Corpus Christi (City).

e. Name of Project: City of Corpus Christi Hydroelectric Project.

f. Location: The proposed project would be located at the City's existing Wesley E. Seale Dam, on the Nueces River in Nueces County, Texas.

g. Filed Pursuant to: Federal Power Act, 16 U.S.C. 791(a)-825(r).

h. Applicant Contacts: David Garcia, City Manager, City of Corpus Christi, 1201 Leopard Street, Corpus Christi, TX 78401, (361) 880-3873. Nancy J. Skancke, Law Offices of GKRSE, 1500 K Street NW., Suite 330, Washington, DC, 20005, (202) 408-5400.

i. FERC Contact: Mr. Lynn R. Miles, (202) 502-8763.

j. Deadline for filing motions to intervene, protests and comments: 60 days from the issuance date of this notice.

All documents (original and eight copies) should be filed with: Magalie R. Salas, Secretary, Federal Energy Regulatory Commission, 888 First Street, NE., Washington, DC 20426. Comments, protests, and interventions may be filed electronically via the Internet in lieu of paper; see 18 CFR 385.2001(a)(1)(iii) and the instructions on the Commission's Web site under the “e-Filing” link. The Commission strongly encourages electronic filings. Please include the project number (P-12424-000) on any comments or motions filed.

The Commission's Rules of Practice and Procedure require all interveners filing documents with the Commission to serve a copy of that document on each person in the official service list for the project. Further, if an intervener files comments or documents with the Commission relating to the merits of an issue that may affect the responsibilities of a particular resource agency, they must also serve a copy of the document on that resource agency.

k. Competing Application: Project No. 12250-000, Date Filed: June 18, 2002, Date Issued: October 7, 2002, Due Date: December 7, 2002.

1. Description of Project: The proposed project would consist of: (1) An existing 5,970-foot-long, gated, concrete-gravity Wesley E. Seale Dam, (2) an existing impoundment, Lake Corpus Christi, with a surface area of 18,256 acres and a storage capacity of 257,260 acre-feet at normal maximum water surface elevation 94.0 above mean sea level, (3) two 2.5 MW turbine generating units with a total installed capacity of 5 megawatts, (4) an existing 69 kV transmission line, and (5) appurtenant facilities. The project would have an average annual generation of 5.2 gigawatt hours.

m. This filing is available for review at the Commission in the Public Reference Room or may be viewed on the Commission's Web site at http://www.ferc.gov using the “FERRIS” link. Enter the docket number excluding the last three digits in the docket number field to access the document. For assistance, call toll-free 1-866-208-3676 or e-mail FERCOnlineSupport@ferc.gov. For TTY, call (202) 502-8659. A copy is also available for inspection and reproduction at the address in item h. above.

n. Competing Applications: Public notice of the filing of the initial preliminary permit application, which has already been given, established the due date for filing competing preliminary permit applications or notices of intent. Any competing preliminary permit or development application or notice of intent to file a competing preliminary permit or development application must be filed in response to and in compliance with the public notice of the initial preliminary permit application. No competing applications or notices of intent to file competing applications may be filed in response to this notice. A competing license application must conform with 18 CFR 4.30 (b) and 4.36.

o. Proposed Scope of Studies under Permit: A preliminary permit, if issued, does not authorize construction. The term of the proposed preliminary permit would be 36 months. The work proposed under the preliminary permit would include economic analysis, preparation of preliminary engineering plans, and a study of environmental impacts. Based on the results of these studies, the Applicant would decide whether to proceed with the preparation of a development application to construct and operate the project.

p. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

q. Filing and Service of Responsive Documents: Any filings must bear in all capital letters the title “COMMENTS”, “PROTEST”, or “MOTION TO INTERVENE”, as applicable, and the Project Number of the particular application to which the filing refers. Any of the above-named documents must be filed by providing the original and eight copies to: Magalie R. Salas, Secretary, Federal Energy Regulatory Commission, 888 First Street, NE., Washington, DC 20426. An additional copy must be sent to Director, Division of Hydropower Compliance and Administration, Federal Energy Regulatory Commission, at the above-mentioned address. A copy of any motion to intervene must also be served upon each representative of the Applicant specified in the particular application.

r. Agency Comments: Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. 03-18661 Filed 7-21-03; 8:45 am]

BILLING CODE 6717-01-P